DEPARTMENT OF AGRICULTURE

Rural Utilities Service

East Kentucky Power Cooperative: Notice of Availability of an Environmental Assessment

AGENCY: Rural Utilities Service, USDA.

ACTION: Notice of Availability of an Environmental Assessment for Public Review.

SUMMARY: The Rural Utilities Service (RUS), an Agency delivering the United States Department of Agriculture (USDA) Rural Development Utilities Programs, hereinafter referred to as Rural Development and/or Agency, has prepared an Environmental Assessment (EA) related to possible financial assistance to East Kentucky Power Cooperative (EKPC) for the construction of two new combustion turbine electric generating units (CTs) at its existing J.K. Smith Electric Generating Station in southern Clark County, Kentucky. The proposed new units would utilize natural gas as a fuel source and would each have a net electrical output of between 82 and 98 megawatts. The proposed new units are needed to provide additional electric generating capacity that would allow EKPC to meet its projected electrical peaking demand in the 2009-2011 period. EKPC is also proposing to construct two new electric switching stations, one at its existing J.K. Smith Generating Station and one in western Garrard County, Kentucky; and a 36 mile, 345 kilovolt electric transmission line that would extend through Clark, Madison, and Garrard Counties, Kentucky, between the proposed new switching stations. The proposed new transmission facilities are needed to provide an outlet for the additional electric power that would be generated at the J.K. Smith Station as a result of the installation of the proposed new CTs. EKPC is requesting USDA Rural Development to provide financial assistance for the proposed project.

DATES: Written comments on this Notice must be received on or before July 26, 2007.

ADDRESSES: To obtain copies of the EA, or for further information, contact: Stephanie Strength, Environmental Protection Specialist, USDA, Rural Development, Utilities Programs, 1400 Independence Avenue, SW., Stop 1571, Washington, DC 20250-1571, phone (202) 720-0468 (e-mail stephanie.strength@wdc.usda.gov). A copy of the EA may be viewed online at the Agency's Web site: http://www.usda.gov/rus/water/ees/ea.htm and at EKPC's headquarters office located at 4775 Lexington Road, Winchester, Kentucky 40391, or the following:

Julie Maruskin, Director, Clark County Library, 370 South Burns Avenue, Winchester, Kentucky 40391, (859) 744-5661.

Sue Hays, Director, Madison County Library, 507 West Main Street, Richmond, Kentucky 40475, (859) 623-6704.

Joan Tussey, Director, Garrard County Public Library, 101 Lexington Street, Lancaster, Kentucky 40444, (859) 792-3424.

SUPPLEMENTARY INFORMATION: Originally five CT units were considered in the EA. Due to the cancellation of Warren Rural Electric Cooperative Corporation's (Warren) wholesale power contract with EKPC, the need for the additional peaking power has been partially delayed. Three of the originally proposed units have been removed from consideration in the EA, and removed from the current application for RUS financing, as the need for the units is not projected to occur until between 2012 and 2014. Therefore, the federal action limited to this proposal is the two CT Units 9 & 10. The Smith to West Garrard 345 kV transmission line will be combined with the Smith CT Units 9 & 10 in the EA. The purpose of the proposed action is to provide additional electric generating capacity to allow EKPC to meet projected peaking demand in the 2009-2011 period and to construct necessary transmission facilities to allow EKPC to deliver the additional electric power required during that period plus additional planned generation.

The proposed CTs would be either model 7EA or model LMS100, both manufactured by GE Energy. Each 7EA would have a net electrical output of 82.2 MW at 59°F. Each LMS100 would have a net electrical output of 97.8 MW at 30°F. The CTs would be operated on natural gas as a fuel source approximately 2,000 hours per year. Very short electric transmission connections consisting of approximately one span of overhead line would be constructed on-site to connect each of the proposed new CT units to the existing electric switching station servicing existing CT units currently located at the site.

The proposed Smith to West Garrard Electric Transmission Line would be designed for 345 kilovolt (kV) operation and would be approximately 36 miles in length, involving roughly 12 miles of transmission line rebuild, 15 miles of co-location, and nine miles of new build. The new transmission line would be supported by vertical H-frame steel pole structures that would range in height from 90 to 130 feet aboveground. Angles, or changes in direction in the transmission line, would require larger structures and/or steel guy cables to act as a counter-force to maintain the integrity of the support structures.

The proposed new transmission line would require a 150-foot wide right-of-way (ROW). The width of the ROW where the proposed line would be co-located with, or parallel to, existing electric transmission lines would also be 150 feet; however, a portion of the existing ROW would be utilized by locating the proposed line as close as possible to the existing facilities. A 75-foot buffer would be maintained to each side of the centerline of the transmission line. EKPC is also proposing to rebuild a portion of an existing 69 kV transmission line as part of the proposed project. Within the proposed rebuild section, the existing electric transmission line ROW is currently 100 feet in width and would require 50 additional feet in ROW width to accommodate the proposed new line.

The J.K. Smith 345 kV Switching Station would be a 345 kV breaker-and-a-half configuration. It would be constructed within EKPC's existing J.K. Smith Generating Station's fenced boundary near an existing electric switchyard. The proposed site for the new switching station has been previously graded in association with other construction activity at the generating station and would not require extensive grading or earth moving activities. The structure heights in the switching station would be between 80 and 90 feet aboveground. The amount of land that would be affected by the proposed construction activity associated with the new switching station would be approximately eight acres.

The West Garrard Switching Station would be a 345 kV breaker-and-a-half configuration designed to accommodate 138 kV and 69 kV step down transformers sometime in the future. The structure heights in the switching station would be between 80 and 90 feet aboveground. The proposed construction activity would affect approximately five to ten acres of land. The construction of the proposed electric generation and transmission project is tentatively scheduled to begin in the fall of 2007 and the estimated duration of construction would be 2 years.

Alternatives considered by USDA Rural Development and EKPC included for the CTs were (a) no action, (b) alternate sources of power, (c) conservation and interruptible load service, (d) renewable energy sources, (e) non-renewable energy sources, (f) alternate sites. The alternatives considered for the transmission facilities were (a) no action, (b) placing the line underground, (c) electrical alternatives, (d) alternate routes, and (e) alternate switching station sites. An Environmental Report (ER) that describes the proposed project in detail and discusses its anticipated environmental impacts has been prepared by EKPC. The USDA Rural Development has reviewed and accepted the document as its EA of the proposed project. The EA is available for public review at addresses provided above in this Notice.

Questions and comments should be sent to USDA Rural Development at the mailing or e-mail addresses provided above in this Notice. USDA Rural Development should receive comments on the EA in writing by July 26, 2007 to ensure that they are considered in its environmental impact determination.

Should USDA Rural Development determine, based on the EA of the proposed project, that the impacts of the construction and operation of the project would not have a significant environmental impact, it will prepare a Finding of No Significant Impact. Public notification of a Finding of No Significant Impact would be published in the Federal Register and in newspapers with circulation in the project area.

Any final action by USDA Rural Development related to the proposed project will be subject to, and contingent upon, compliance with all relevant Federal, state and local environmental laws and regulations, and completion of the environmental review requirements as prescribed in USDA Rural Development's Environmental Policies and Procedures (7 CFR part 1794).

Mark S. Plank,
Director, Engineering and Environmental Staff, USDA/Rural Development/Utilities Programs.

[FR Doc. E7-12294 Filed 6-25-07; 8:45 am]

BILLING CODE 3410-15-P